NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by November 23, 2007. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Permit Application No.: 2008-023.

Applicant: Gary Hochman, NET Television (PBS), 1800 N. 33rd Street, Lincoln, NE 68503.

Activity for Which Permit Is Requested

Enter Antarctic Specially Protected Areas. The applicant plans to enter Arrival Heights (ASPA #122), Discovery Hut, Hut Point (ASPA #158), Cape Royds (ASPA 157), Cape Evans (ASPA #155) and Cape Crozier (ASPA 124) for the purpose of videotaping a variety of International Polar Year (IPY) scientific research, landscapes, aerials, and scenery for a broadcast on the PBS science series, NOVA.

Location

Arrival Heights (ASPA #122), Discovery Hut, Hut Point (ASPA #158), Cape Royds (ASPA 157), Cape Evans (ASPA #155) and Cape Crozier (ASPA 124).

Dates: November 10, 2007 to January 20, 2008.

2. Permit Application No.: 2008-024.

Applicant: Geoff Haines-Stiles Productions, Inc., POLAR-PALOOZA, 27 Washington Valley Road, Morristown, NJ 07960.

Activity for Which Permit Is Requested

Enter Antarctic Specially Protected Areas. The applicant plans to enter New College Valley, Cape Bird (ASPA #116), Cape Royds (ASPA #121), Backdoor Bay, Cape Royds (ASPA #157), Hut Point (ASPA #158), Cape Crozier (ASPA #124), Tramway Ridge, Mount Erebus (ASPA #130), Canada Glacier, Lake Fryxell, Taylor Valley (ASPA #131), and, Cape Evans (ASPA #155) to videotape scientific research conducted at these sites. The footage will be used in a series of pod casts and web video materials on the International Polar Year (IPY).

Location

New College Valley, Cape Bird (ASPA #116), Cape Royds (ASPA #121), Backdoor Bay, Cape Royds (ASPA #157), Hut Point (ASPA #158), Cape Crozier (ASPA #124), Tramway Ridge, Mount Erebus (ASPA #130), Canada Glacier, Lake Fryxell, Taylor Valley (ASPA #131), Cape Evans (ASPA #155), Dry Valley ASMA 2 and South Pole Station.

Dates: November 12, 2007 to April 20, 2008.

3. Permit Application No.: 2008-025.

Applicant: Rennie S. Holt, Director, U.S. AMLR Program, Southwest Fisheries Science Center, National Marine Fisheries Service, 8604 La Jolla Shores Drive, La Jolla, CA 92038.

Activity for Which Permit Is Requested

Take, enter an Antarctic Specially Protected Area, and import into the U.S.A. The applicant plans to capture up to 35 adult female Southern Elephant seals annually in order to tag, dye mark, take blood samples, weigh, take whisker, muscle and blubber samples, and instrument the animals with SRDL and VHF recorders and transmitters. The information and samples collected will be used to study the foraging behavior and habitat utilization of the Southern Elephant seals.

Location

Cape Shirreff and San Telmo Island, Livingston Island (ASPA #149).

Dates: November 15, 2007 to April 30, 2011.

4. Permit Application No.: 2008-027.

Applicant: David Caron, Department of Biological Sciences, University of Southern California, 3616 Trousdale Parkway, Los Angeles, CA 90089-0371.

Activity for Which Permit Is Requested

Take and export from the U.S.A. The applicant wishes to bring Gemingera sp. (a cryptophpyta micro alga), originally collected in Antarctica, back to Antarctica for use in experiments to quantify grazing on this cryptophyte. The applicant plans to use this alga in case the naturally occurring alga is not in high abundance in the Ross Sea. Experiments will be conducted onboard the Nathaniel B. Palmer during the Ross Sea cruise.

Location

Ross Sea.

Dates: December 15, 2007 to March 15, 2008.

5. Permit Application No.: 2008-028.

Applicant: Craig Tweedie, University of Texas at El Paso, 500 West University Avenue, 226 Biology Bldg., El Paso, TX 79968.

Activity for Which Permit Is Requested

Take and import into the U.S.A. The applicant plans to collect small samples of lichens, moss, algae and vascular planats (Deschampsia sp. and Collobanthus sp.) to meet the goals of an NSF funded International Polar Year (IPY) education grant. The applicant will provide a unique Antarctic field based education experience to minority majority undergraduate and graduate students and teachers. Students will be instructed in detail how to make collections in a manner that does not affect the aesthetics of the site, does not impact the experience of other tourists visiting Antarctica, and is performed in such a way to minimize the ecological footprint of the collection process.

Location

Various locations in the Antarctic Peninsula as selected by the Expedition Leader onboard the cruise ship.

Dates: November 1, 2007 to December 31, 2007.

6. Permit Application No.: 2008-029.

Applicant: David L. Barbeau, Jr., Department of Geological Sciences, University of South Carolina, 701 Sumter St., EWS 617, Columbia, SC 29208.

Activity for Which Permit Is Requested

Enter and Antarctic Specially Protected Area. The applicant plans to enter the Mount Flora region (ASPA #148) to collect bedrock (sandstone and mud rock) to constrain the age of opening of the Drake Passage in order to assess the influence of plate kinematics and ocean gateway development on Antarctic glaciations.

Location

Mount Flora (ASPA #148), Antarctic Peninsula.

Dates: November 1, 2007 to December 31, 2007.

Nadene G. Kennedy,
Permit Officer, Office of Polar Programs.

[FR Doc. E7-20802 Filed 10-22-07; 8:45 am]

BILLING CODE 7555-01-P